DEPARTMENT OF HEALTH AND HUMAN SERVICES

Centers for Disease Control and Prevention

Request for Nominations of Candidates To Serve on the Advisory Council for the Elimination of Tuberculosis, Centers for Disease Control and Prevention, Department of Health and Human Services

The Centers for Disease Control and Prevention (CDC) is soliciting nominations for possible membership on the Advisory Council for the Elimination of Tuberculosis (ACET).

ACET provides advice and recommendations to the Secretary, Department of Health and Human Services (HHS); the Assistant Secretary of Health; and the Director, CDC, regarding program policies, strategies, objectives, and priorities; address the development and application of new technologies; provide guidance and review on CDC's Tuberculosis Prevention Research portfolio and program priorities; and review the extent to which progress has been made toward eliminating tuberculosis.

ACET consists of 10 experts knowledgeable in the fields of public Health, epidemiology, immunology, infectious diseases, pulmonary disease, pediatrics, tuberculosis, microbiology, or preventive health care delivery, who are selected by the Secretary of the United State Department of Health and Human Services.

Nominations are being sought for individuals who have expertise and qualifications necessary to contribute to the accomplishments of the Council's objectives.

Nominees will be selected from experts having experience in tuberculosis prevention and control.

Experts in the disciplines of epidemiology, immunology, infectious diseases, pulmonary disease, pediatrics, tuberculosis, microbiology, preventive health care delivery, and experts in public health and other related disciplines will be considered. Members may be invited to serve up to four-year terms. The HHS policy stipulates that committee membership be balanced in terms of professional training and background, points of view represented and the council's function. Consideration is given to a broad representation of geographic areas within the U.S., with equitable representation of the sexes, ethnic and racial minorities, and persons with disabilities. Nominees must be U.S. citizens, and cannot be full-time employees of the U.S. Government.

Candidates should submit the following items:

• Current curriculum vitae, including complete contact information (telephone numbers, mailing address, email address)

• A letter of recommendation from person(s) not employed by the U.S. Department of Health and Human Services

• A statement indicating the nominee's willingness to serve as a potential member of the Council.

Nominations should be submitted electronically or in writing, and must be postmarked by September 30, 2014, to: Margie Scott-Cseh, Committee Management Specialist, NCHHSTP, CDC, 1600 Clifton Road NE., Mailstop: E07, Atlanta, GA 30333, Email address: zkr7@cdc.gov.

The Director, Management Analysis and Services Office, has been delegated the authority to sign Federal Register notices pertaining to announcements of meetings and other committee management activities, for both the Centers for Disease Control and Prevention, and the Agency for Toxic Substances and Disease Registry.

Gary J. Johnson,
Acting Director, Management Analysis and Services Office, Centers for Disease Control and Prevention.

[FR Doc. 2014-00044 Filed 1-7-14; 8:45 am]

BILLING CODE 4163-18-P